DEPARTMENT OF HEALTH AND HUMAN SERVICES

Health Resources and Services Administration

Agency Information Collection Activities: Proposed Collection: Public Comment Request; Information Collection Request Title: Ryan White HIV/AIDS Program (RWHAP) Parts A and B Unobligated Balances and Rebate Addendum Tables, OMB No. 0906-0047—Extension

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than October 28, 2025.

ADDRESSES: Submit your comments to paperwork@hrsa.gov or mail the HRSA Information Collection Clearance Officer, Room 14NWH04, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Ryan White HIV/AIDS Program Parts A and B Unobligated Balances and Rebate Addendum Tables, OMB No. 0906-0047—Extension.

Abstract: HRSA's Ryan White HIV/AIDS Program (RWHAP) funds and coordinates with cities, states and territories, and local clinics/community-based organizations to deliver efficient and effective HIV care, treatment, and support to low-income people diagnosed with HIV. Nearly two-thirds of RWHAP clients (patients) live at or below 100 percent of the federal poverty level (FPL). Since 1990, RWHAP has developed a comprehensive system of HIV service providers who deliver high quality direct health care and support services to over half a million people with diagnosed HIV—more than 50 percent of all people with diagnosed HIV in the United States.

Grant recipients funded under RWHAP Parts A, B, C, and D (codified under Title XXVI of the Public Health Service Act) are required to report financial data to HRSA at the beginning (Allocations Report) and at the end of each grant budget period (Expenditures Report) using the designated HRSA grant submission software which is approved by OMB under the 0915-0318 control number. HRSA collects unobligated balances (UOB) of federal funds and rebate addendum information by subprogram from their grant recipients. A UOB is the cumulative amount that is available for obligation in an unexpired account. HRSA uses the UOB and rebate addendum financial information to determine formula funding as directed by the RWHAP statute. HRSA is not planning to make changes to this information collection as part of this extension request.

Federal award expenditure data were previously collected when grant recipients submitted their annual Federal Financial Report (FFR SF-425), which HRSA then combined with the UOB and rebate addendum tables submitted by recipients using the designated HRSA grant submission software. HRSA created the currently approved instrument, which has been in use for several years now, to streamline the process for grant recipients by collecting financial information in the same location and at the same time as the FFR SF-425. Whereas grant recipients previously completed the FFR SF-425 in the HRSA EHBs, they now complete it in the Payment Management System. Additionally, grant recipients complete the UOB and rebate addendum data tables as part of their FFR SF-425 submission in the Payment Management System.

Need and Proposed Use of the Information: Before implementing the current process described above, RWHAP Part A and Part B recipients completed the UOB and rebate addendum tables in a non-electronic form and uploaded them as attachments to their FFR SF-425 submission. Renewal of the current process will continue to increase transparency and improve the quality of data submitted to HRSA. These UOB and rebate addendum tables are essential for allowing HRSA to ensure that RWHAP recipients are meeting the goal of accountability to Congress, clients, advocacy groups, and the general public. Information provided in the UOB and rebate addendum tables is critical for HRSA, cities, states and territories, local clinics, and individual providers to evaluate the effectiveness of these programs.

Currently Approved RWHAP Part A Table
Unobligated balance (UOB) of federal funds by subprogram: Category | Unobligated balance (UOB) of federal funds by subprogram: Federal funds authorized | Unobligated balance (UOB) of federal funds by subprogram: Unexpended carryover | Unobligated balance (UOB) of federal funds by subprogram: Prior year (FY20XX) | Unobligated balance (UOB) of federal funds by subprogram: Current year (FY 20XX)
Part A Formula
Part A Supplemental
Part A MAI

Currently Approved RWHAP Part B Table
Unobligated balance (UOB) of federal funds by subprogram: Category | Unobligated balance (UOB) of federal funds by subprogram: Federal funds authorized | Unobligated balance (UOB) of federal funds by subprogram: Unexpended carryover | Unobligated balance (UOB) of federal funds by subprogram: Prior year (FY20XX) | Unobligated balance (UOB) of federal funds by subprogram: Current year (FY 20XX)
Part B Base
Part B ADAP
Part B Emerging Communities
Part B MAI
Part B ADAP Supplemental
Part A Transfer

Currently Approved RWHAP Part B Rebate Table
Ryan White rebate funding
Total Rebates Available
Expended Rebate Amount
Unexpended Rebate
Expended Rebate Amount to be Used to Reduce UOB

Likely Respondents: HRSA RWHAP Parts A and B Grant Recipients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The last total annual burden hours estimated are summarized in the table below.

Total of Previously Estimated Annualized Burden Hours
Form name | Number of respondents | Number of responses per respondent | Total responses | Average burden per response (in hours) | Total burden hours
Part A UOB Table | 52 | 1 | 52 | 0.5 | 26.0
Part B UOB Table | 59 | 1 | 59 | 0.5 | 29.5
Total | 111 |  | 111 |  | 55.5

Note: This is the previously estimated annualized burden hours. A current assessment of recipient burden hours is under way. The newly captured estimates will be included in the 30-day FRN.

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2025-16667 Filed 8-28-25; 8:45 am]

BILLING CODE 4165-15-P